OFFICE OF GOVERNMENT ETHICS

Privacy Act of 1974; System Records

AGENCY: Office of Government Ethics (OGE).

ACTION: Notice of a modified system of records.

SUMMARY: The Office of Government Ethics (OGE) proposes to revise one of its existing internal systems of records pursuant to the provisions of the Privacy Act of 1974. This system of records currently contains personally identifiable information (PII) collected from Federal employees and/or members of the public who register to attend or otherwise participate in OGE meetings and events. The system is currently designated OGE/INTERNAL-6, Online Registration for OGE-Hosted Meetings and Events. OGE proposes to revise the system of records to contain additional records associated with OGE professional development offerings, including ongoing educational and certification programs, as well as the one-time events currently covered. OGE also proposes to change the name to reflect these changes.

DATES: The revisions will be effective on October 5, 2023, subject to a 30-day period in which to comment on the new routine uses, described below. Please submit any comments by November 6, 2023.

ADDRESSES: Comments may be submitted to OGE, by any of the following methods:

Email: usoge@oge.gov (Include reference to “OGE/INTERNAL-6 comment” in the subject line of the message.)

Mail, Hand Delivery/Courier: Office of Government Ethics, 1201 New York Avenue NW, Suite 500, Attention: Jennifer Matis, Associate Counsel, Washington, DC 20005-3917.

Instructions: Comments may be posted on OGE's website, https://www.oge.gov. Sensitive personal information, such as account numbers or Social Security numbers, should not be included. Comments generally will not be edited to remove any identifying or contact information.

FOR FURTHER INFORMATION CONTACT: Jennifer Matis at the U.S. Office of Government Ethics; telephone: 202-482-9229; TTY: 800-877-8339; email: jmatis@oge.gov.

SUPPLEMENTARY INFORMATION: The Office of Government Ethics (OGE) is revising one of its existing internal systems of records pursuant to the provisions of the Privacy Act of 1974. This system of records currently contains personally identifiable information (PII) collected from Federal employees and/or members of the public who register to attend or otherwise participate in OGE-hosted meetings and events. The system is currently designated OGE/INTERNAL-6, Online Registration for OGE-Hosted Meetings and Events.

OGE proposes to revise the system of records to contain additional records associated with OGE professional development offerings, including ongoing educational, training, and certification programs as well as the one-time events currently covered. Since OGE/INTERNAL-6 was first created, OGE has expanded its professional development offerings to incorporate additional formats beyond classroom-style training sessions and the National Government Ethics Summit. These expanded programs, as well as governmentwide equity and customer service initiatives, necessitate that OGE collect and maintain PII beyond what was previously required. By expanding the purpose of the system and the categories of records in the system, OGE will be able to ensure that it can continue to carry out its statutory duty to provide professional development in support of the executive branch ethics program, and do so in compliance with the Privacy Act.

OGE also proposes to change the name of the system to reflect these changes, add three routine uses to address the planned uses of the information collected, update a citation to the Ethics in Government Act, and update its street address.

SYSTEM NAME AND NUMBER:

OGE/INTERNAL-6, Registration and Administration Records for OGE-Hosted Meetings, Events, Educational and Training Programs, and Professional Development Offerings.

SECURITY CLASSIFICATION:

Unclassified.

SYSTEM LOCATION:

Office of Government Ethics, 1201 New York Avenue NW, Suite 500, Washington, DC 20005-3917. After February 1, 2024, OGE's street address will be Office of Government Ethics, Suite 750, 250 E Street SW, Washington, DC 20024.

Records may be kept in commercial third-party applications, including Pay.gov, located at the Department of the Treasury, Bureau of the Fiscal Service, 401 14th Street SW, Washington, DC 20227.

SYSTEM MANAGER(S):

Nicole Stein, Chief, Agency Assistance Branch, Office of Government Ethics. See the System Location section for street address.

AUTHORITY FOR MAINTENANCE OF THE SYSTEM:

5 U.S.C. 13122 (Ethics in Government Act of 1978); 44 U.S.C. 3101.

PURPOSE(S) OF THE SYSTEM:

The purpose is to collect and maintain information necessary to plan and administer OGE meetings, events, educational and training programs, and professional development offerings. This includes information on participants who apply for, register for, or agree to present at an in-person or online meeting, event, educational and training program, or professional development offering. It also includes information on the collection of registration fees, information used to create printed materials such as nametags, tent cards, event programs and directories, and completion certifications, and demographic and other information used to improve OGE's offerings. The information collected will also be used for the purpose of improving the effectiveness of OGE's offerings, in order to inform future decisions and resource allocation, and comply with executive branch-wide evaluation and reporting requirements.

CATEGORIES OF INDIVIDUALS COVERED BY THE SYSTEM:

Federal employees in the executive branch, and/or members of the public who apply for, register to attend, or otherwise participate in OGE-hosted meetings, events, educational and training programs, or professional development offerings.

CATEGORIES OF RECORDS IN THE SYSTEM:

This system of records contains personally identifiable information (PII) collected from individuals registering to attend or otherwise participate in OGE meetings, events, educational and training programs, and professional development offerings. The PII collected includes name, agency/organization, position title, grade level, address, telephone number, email address, state, city or town, country, number of years worked in the field of ethics, percentage of time spent performing ethics duties, special accommodations requests, previous professional development completed, demographic information (e.g., whether a participant identifies as a member of an underserved community), and application information such as letters of recommendation for acceptance into a program, applicants' level of expertise in particular areas of government ethics work, and applicants' resumes.

RECORD SOURCE CATEGORIES:

Information in this system of records is provided by the individual on whom the record is maintained, or by the individual's organization if the organization is registering an individual on their behalf.

ROUTINE USES OF RECORDS MAINTAINED IN THE SYSTEM, INCLUDING CATEGORIES OF USERS AND THE PURPOSES OF SUCH USES:

These records and the information contained therein may be used:

a. To disclose information to all event participants for the purposes of displaying names and other personal information on event materials such as name badges, tent cards, or event programs or directories.

b. To share participants' biographical and/or contact information with other participants for the purpose of facilitating networking, mentoring relationships, and/or other cooperative professional development opportunities.

c. To disclose information to vendors, venues, or other Federal agencies for the purposes of event planning and/or venue security.

d. To provide confirmation or certification of completion and/or evaluations to the individuals registered for OGE meetings, events, educational and training programs, and professional development offerings.

e. To provide confirmation or certification of completion and/or evaluations for executive branch ethics officials registered for OGE meetings, events, educational and training programs, and professional development offerings to any individuals responsible for reviewing, approving, and/or recommending training at the ethics officials' employing agencies.

f. To disclose to other executive branch agencies and the public, summary data on OGE meetings, events, educational and training programs, and professional development offerings as part of internal OGE Annual Performance Reports, Equity and DEIA reports, and other evaluations of OGE programs.

g. To disclose information when OGE determines that the records are arguably relevant and necessary to a proceeding before a court, grand jury, or administrative or adjudicative body; or in a proceeding before an administrative or adjudicative body when the adjudicator determines the records to be relevant and necessary to the proceeding.

h. To disclose information to the National Archives and Records Administration in records management inspections conducted under authority of 44 U.S.C. 2904 and 2906.

i. To disclose information to appropriate agencies, entities, and persons when: (1) OGE suspects or has confirmed that there has been a breach of the system of records; (2) OGE has determined that as a result of the suspected or confirmed breach there is a risk of harm to individuals, the agency (including its information systems, programs, and operations), the Federal Government, or national security; and (3) the disclosure made to such agencies, entities, and persons is reasonably necessary to assist in connection with OGE's efforts to respond to the suspected or confirmed breach or to prevent, minimize, or remedy such harm.

j. To disclose information to another Federal agency or Federal entity, when OGE determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained in paper and/or electronic form.

POLICIES AND PRACTICES FOR RETRIEVAL OF RECORDS:

These records may be retrieved by name or other data elements such as an individual's agency.

POLICIES AND PRACTICES FOR RETENTION AND DISPOSAL OF RECORDS:

In accordance with General Records Schedule 6.4, item 010, Public affairs-related routine operational records, administrative event records are destroyed when 3 years old, or no longer needed, whichever is later. In accordance with General Records Schedule 2.6, item 020, Ethics training records, ethics training records are destroyed when 6 years old or when superseded, whichever is later.

ADMINISTRATIVE, TECHNICAL, AND PHYSICAL SAFEGUARDS:

Hardcopy records are maintained in file cabinets which may be locked or in specified areas to which only authorized personnel have access. Electronic records are maintained either on the OGE network, in OGE internal applications, or in third party applications like Pay.gov, which is used to manage paid registrations. They are protected from unauthorized access through password identification procedures, limited access, firewalls, and other system-based protection methods.

RECORD ACCESS PROCEDURES:

Individuals requesting access to this system of records must follow the procedures set forth in OGE's Privacy Act regulations at 5 CFR part 2606.

CONTESTING RECORD PROCEDURES:

Individuals wishing to request amendment of records about themselves must follow the procedures set forth in OGE's Privacy Act regulations at 5 CFR part 2606.

NOTIFICATION PROCEDURES:

Individuals wishing to inquire whether this system of records contains information about them must follow the procedures set forth in OGE's Privacy Act regulations at 5 CFR part 2606.

EXEMPTIONS CLAIMED FOR THE SYSTEM:

None.

HISTORY:

84 FR 70191.

Approved: September 28, 2023.
Shelley K. Finlayson,
Acting Director, U.S. Office of Government Ethics.

[FR Doc. 2023-22168 Filed 10-4-23; 8:45 am]

BILLING CODE 6345-03-P